DEPARTMENT OF HEALTH AND HUMAN SERVICES

Food and Drug Administration

[Docket No. FDA-2013-N-0010]

Cooperative Agreement to Support the World Trade Organization's Standards and Trade Development Facility

AGENCY: Food and Drug Administration, HHS.

ACTION: Notice.

SUMMARY: The Food and Drug Administration (FDA) is announcing its intention to receive and consider a single source application for the award of a cooperative agreement in fiscal year 2013 (FY 2013) to the World Trade Organization's (WTO) Standards and Trade Development Facility (STDF).

DATES: Important dates are as follows:

1. The application due date is August 1, 2013.

2. The anticipated start date is September 2013.

3. The expiration date is August 2, 2013.

ADDRESSES: Submit electronic applications to: http://www.grants.gov. For more information, see section III of the SUPPLEMENTARY INFORMATION section of this notice.

FOR FURTHER INFORMATION CONTACT: Scientific/Programmatic Contact: Julie Moss, Center for Food Safety and Applied Nutrition (HFS-550), Food and Drug Administration, 5100 Paint Branch Pkwy., College Park, MD 20740, 240-402-2031, email: julie.moss@fda.hhs.gov.

Grants Management Contact: Kimberly Pendleton Chew, Office of Acquisitions and Grant Services (HFA-500), Food and Drug Administration, 5630 Fishers Lane, rm. 2105, Rockville, MD 20857, 301-827-9363, email: kimberly.pendleton@fda.hhs.gov.

For more information on this funding opportunity announcement (FOA) and to obtain detailed requirements, please refer to the full FOA located at www.fda.gov/food/newsevents/default.htm.

SUPPLEMENTARY INFORMATION:

I. Funding Opportunity Description

RFA-FD-13-036

93.103

A. Background

The STDF is a unique global partnership established by the Food and Agriculture Organization, World Organization for Animal Health, World Bank, World Health Organization (WHO) and the WTO. The STDF supports developing countries in building their capacity to implement international sanitary and phytosanitary (SPS) standards, guidelines, and recommendations as a means to improve their human, animal, and plant health status and ability to gain or maintain access to markets. In achieving its aims, the STDF acts as both a coordinating and a financing mechanism.

The STDF is a widely established knowledge platform for information exchange, sharing experiences and the identification and dissemination of good practice on SPS-related technical cooperation. Since 2004, over 60 projects and 52 project preparation grants have assisted developing countries to overcome SPS constraints, and gain and maintain market access. Over 50% have benefited least developed and other low-income countries.

The STDF utilizes a key decision-support tool, Multi-Criteria Decision Analysis (MCDA), to help establish SPS priorities and ensure resources are used as efficiently as possible. The use of the MCDA tool is unique within the STDF and is a highly-valued attribute; the MCDA tool facilitates an open and transparent discussion among public and private stakeholders about capacity-building needs and resources. The STDF is committed to the Paris Principles on Aid Effectiveness and to achieving the Millennium Development Goals.

With an increasingly diverse and complex global food supply, FDA's interest is to strengthen food safety systems globally to prevent food safety problems rather than merely reacting to problems after they occur. FDA recognizes that it cannot do this alone. By leveraging with other WTO member countries and partnering with the STDF, FDA can broaden the reach of food safety capacity building efforts.

This cooperative agreement will allow FDA to deepen its international food safety capacity building partnerships, provide a wider scope of impact than exists currently and leverage resources with other countries.

B. Research Objectives

The purpose of this cooperative agreement is to:

1. Contribute to the knowledge base and development of food safety systems globally due to the increasingly diverse and complex food supply;

2. Enhance and broaden FDA's ability to address global food safety and public health issues associated with food;

3. Provide opportunities to leverage additional resources among WTO member countries;

4. Support FDA's Food Safety Modernization Act (FSMA) and its International Food Safety Capacity Building Plan, which emphasizes the concept of preventing food safety-related problems before they occur and the importance of establishing strong relationships and mutual support among all stakeholders, including multilateral organizations, to improve worldwide food safety.

C. Eligibility Information

Competition is limited to the STDF hosted by the WTO. The STDF is a global partnership with a well-established, trusted presence and is uniquely qualified to further the global food safety capacity building objectives of this cooperative agreement. STDF's mandate is to: (1) Increase awareness, mobilize resources, strengthen collaboration, identify and disseminate good practice; and (2) provide support and funding for the development and implementation of projects that promote compliance with international SPS requirements.

An independent external evaluation of the STDF in 2008 concluded that the STDF “carries out an important role that no other single body would be able to accomplish.” (Source: STDF Newsletter, Vol. 2, Issue 1, February 2009, accessible at: www.standardsfacility.org) As such, the STDF is uniquely equipped to fulfill the objectives of this cooperative agreement due to its diverse access to WTO members in both developed and developing countries and its ability to coordinate capacity building programs at a national, regional, and global level. Engaging the STDF through this cooperative agreement will provide FDA with ample opportunities to leverage additional resources among WTO member countries.

Overall, the objectives of the STDF are directly in line with the objectives of this cooperative agreement. This ability to advance the objectives of this cooperative agreement through member country engagement and leveraging is a requisite for success.

II. Award Information/Funds Available

A. Award Amount

The Center for Food Safety and Applied Nutrition intends to fund one award up to $750,000 total costs (direct plus indirect costs) for FY 2013. Future year amounts will depend on annual appropriations and successful performance.

B. Length of Support

The award will provide 1 year of support and include future recommended support for 4 additional years, contingent upon satisfactory performance in the achievement of project and program reporting objectives during the preceding year and the availability of Federal fiscal year appropriations.

III. Electronic Application, Registration, and Submission

Only electronic applications will be accepted. To submit an electronic application in response to this FOA, applicants should first review the full announcement located at www.fda.gov/food/newsevents/default.htm. (FDA has verified the Web site addresses throughout this document, but FDA is not responsible for any subsequent changes to the Web sites after this document publishes in the Federal Register.) For all electronically submitted applications, the following steps are required.

• Step 1: Obtain a Dun and Bradstreet (DUNS) Number

• Step 2: Register With System for Award Management (SAM)

• Step 3: Obtain Username & Password

• Step 4: Authorized Organization Representative (AOR) Authorization

• Step 5: Track AOR Status

• Step 6: Register With Electronic Research Administration (eRA) Commons Steps 1 through 5, in detail, can be found at http://www07.grants.gov/applicants/organization_registration.jsp. Step 6, in detail, can be found at https://commons.era.nih.gov/commons/registration/registrationInstructions.jsp. After you have followed these steps, submit electronic applications to: http://www.grants.gov.

Dated: July 10, 2013.
Leslie Kux,
Assistant Commissioner for Policy.

[FR Doc. 2013-16860 Filed 7-12-13; 8:45 am]

BILLING CODE 4160-01-P